DEPARTMENT OF ENERGY

Supplemental Environmental Impact Statement: Site Selection for the Expansion of the Strategic Petroleum Reserve

AGENCY: Department of Energy.

ACTION: Notice of Intent to Prepare a Supplemental Environmental Impact Statement and Conduct Public Scoping Meetings, and Notice of Floodplain and Wetlands Involvement.

SUMMARY: The Energy Policy Act of 2005 (EPACT, P.L. 109-58) required the Department of Energy (DOE) to expand the Strategic Petroleum Reserve (SPR) from its current 727 million-barrel capacity to 1 billion barrels. In order to fulfill the requirements of the National Environmental Policy Act (NEPA) for the expansion project, DOE prepared the environmental impact statement (EIS) Site Selection for the Expansion of the Strategic Petroleum Reserve (DOE/EIS-0385). In the Record of Decision (ROD), published in the Federal Register on February 22, 2007, DOE announced its selection of Richton, Mississippi, as the location of a new SPR facility as part of the expansion project. The site was selected for its large and undeveloped salt dome, enhanced oil distribution capabilities, and inland location that is less vulnerable to the damaging effects of hurricanes.

Since selecting the Richton site, DOE has engaged in further consultations with Federal and Mississippi state agencies and is now considering different locations from those addressed in DOE/EIS-0385 for certain facilities associated with the Richton SPR expansion site. This Notice announces DOE's intent to prepare a supplemental environmental impact statement (SEIS) in accordance with NEPA, Council on Environmental Quality (CEQ) NEPA regulations (40 CFR parts 1500-1508), and the DOE NEPA regulations (10 CFR part 1021).

Some of the potential new locations may be in floodplains or wetlands. DOE hereby gives notice that it will include in the SEIS a floodplain assessment and a wetland assessment prepared in accordance with the DOE Regulations for Compliance with Floodplain and Wetland Environmental Review Requirements (10 CFR part 1022).

DOE invites interested agencies, organizations, Native American tribes, and members of the public to submit comments or suggestions to assist in identifying alternatives, significant environmental issues, and the appropriate scope of the SEIS.

DATES: The public scoping period starts March 5, 2008 and will continue until April 29, 2008. Written and oral comments will be given equal weight and DOE will consider all comments received or postmarked by April 29, 2008, in defining the scope of the SEIS. Written comments postmarked or sent after this date will be considered to the degree practicable. The dates for public meetings are as follows:

April 8, 2008; 2 p.m. to 8 p.m.; Leakesville, Mississippi (Greene County)

April 9, 2008; 2 p.m. to 8 p.m.; Lucedale, Mississippi (George County)

April 10, 2008; 2 p.m. to 8 p.m.; Pascagoula, Mississippi (Jackson County)

The locations of the public scoping meetings were selected based on their proximity to the locations of proposed facilities under consideration. If an agency, organization, or a member of the general public wishes to request that DOE have an additional scoping meeting at a specific location, please contact Donald Silawsky at the address listed in the ADDRESSES section of this Notice. If DOE decides to hold public meetings in addition to those listed above, DOE will publish an amendment to this Notice and make other public announcements.

ADDRESSES: Written comments or suggestions on the scope and content of the SEIS should be directed to Donald Silawsky at the Office of Petroleum Reserves (FE-47), U.S. Department of Energy, 1000 Independence Avenue, SW., Washington, DC 20585-0301. Mr. Silawsky may also be contacted by telephone at 202-586-1892, by facsimile at 202-586-4446, or by electronic mail at donald.silawsky@hq.doe.gov. Envelopes and the subject line of e-mails or faxes should be labeled “Scoping for the SPR SEIS.” Please note that conventional mail to DOE may be delayed by anthrax screening.

The locations of the scoping meetings are as follows:

Greene County High School, 4336 High School Road, Leakesville, Mississippi

George County Senior Center, 7102 Hwy. 198 E., Lucedale, Mississippi

B.E. Mac McGinty Civic Center, 2902 Shortcut Road, Pascagoula, Mississippi

FOR FURTHER INFORMATION CONTACT: For information on the proposed project or to receive a copy of the Draft SEIS when it is issued, contact Donald Silawsky by any of the means listed in the ADDRESSES section of this Notice. Additional information may also be found on the DOE Fossil Energy Web site at http://www.fe.doe.gov.

For further information on the expansion of the Strategic Petroleum Reserve, contact David Johnson at the Office of Petroleum Reserves (FE-42), U.S. Department of Energy, 1000 Independence Avenue, SW., Washington, DC 20585-0301, by telephone at 202-586-4733, by facsimile at 202-586-7919, or by electronic mail at david.johnson@hq.doe.gov.

For general information on the DOE NEPA process, contact Carol Borgstrom, Director, Office of NEPA Policy and Compliance (GC-20), U.S. Department of Energy, 1000 Independence Avenue, SW., Washington, DC 20585-0103, by telephone at 202-586-4600, or leave a toll-free message at 800-472-2756.

SUPPLEMENTARY INFORMATION:

Background and Need for Agency Action

The Energy Policy Act of 2005 (EPACT, Pub. L. 109-58) states (in Section 303) that: “Not later than 1 year after the date of enactment of this Act, the Secretary shall complete a proceeding to select, from sites that the Secretary has previously studied, sites necessary to enable acquisition by the Secretary of the full authorized volume of the Strategic Petroleum Reserve.” In order to fulfill the requirements of NEPA for the expansion project, DOE prepared the EIS Site Selection for the Expansion of the Strategic Petroleum Reserve (DOE/EIS-0385). In the ROD, published in the Federal Register on February 22, 2007 (72 FR 7964), DOE announced its selection of Richton, Mississippi, as the location of a new SPR facility as part of the expansion project. The site was selected for its large and undeveloped salt dome, enhanced oil distribution capabilities, and inland location that is less vulnerable to the damaging effects of hurricanes.

The ROD stated that the raw water intake structure to be used for oil storage cavern development, maintenance, and drawdown at the Richton facility is to be located at the Leaf River at New Augusta, Mississippi (10 miles from the Richton Site), with a secondary raw water intake structure at the Gulf of Mexico (88 miles from the Richton Site). The ROD also stated that the oil terminal and tank farm are to be located at the former Naval Station Pascagoula, a Base Realignment and Closure site on Singing River Island in the Gulf of Mexico. The brine disposal pipeline as described in DOE/EIS-0385 was to run roughly south from Singing River Island into the Gulf of Mexico and terminate in a diffuser about 11.5 miles from the south shore of the island.

After selecting Richton, DOE engaged in further consultations with the Mississippi Department of Environmental Quality, U.S. Fish and Wildlife Service, and other governmental entities. As a result, DOE is considering whether to select a new location for the raw water intake structure, from the location on the Leaf River as described in the ROD, to a location with greater water availability. DOE will also assess a new location for the marine oil terminal from the Singing River Island location described in the ROD. Relocating the oil terminal may require a revised route for the offshore brine disposal pipeline. DOE will assess any changes to pipeline or powerline rights-of-way that would be made as a result of changing the raw water intake structure and marine oil terminal facilities.

DOE has determined that the potential new locations of the raw water intake, oil terminal, and brine disposal pipeline and diffuser associated with the Richton SPR expansion facility would be substantial changes to the proposal analyzed in DOE/EIS-0385 that are relevant to environmental concerns. DOE will therefore prepare a SEIS in accordance with NEPA, the CEQ NEPA regulations (40 CFR parts 1500-1508), the DOE NEPA regulations (10 CFR part 1021), and 10 CFR part 1022.

Alternatives

DOE has identified the Pascagoula River near Merrill as one alternative location for the raw water intake for the Richton SPR expansion facility. DOE has identified Bayou Casotte Harbor as an alternative site for the marine oil terminal. Associated with this potential new location of the oil terminal is a revised route for the offshore brine disposal pipeline that would run south from Bayou Casotte Harbor into the Gulf of Mexico and utilize an existing underwater right of way. The termination point of the revised pipeline route at the diffuser would be about 1.2 miles west of the diffuser location that was identified in DOE/EIS-0385. DOE will assess any changes to pipeline or powerline rights-of-way that would be made as a result of changing the raw water intake structure and marine oil terminal facilities. DOE invites suggestions for alternative locations for the raw water intake structure, oil terminal, and brine disposal.

The No-Action Alternative would be to not change the planned locations of the raw water intake structure, marine oil terminal, and brine disposal pipeline and diffuser.

Identification of Environmental Issues

The purpose of this Notice is to solicit comments and suggestions for consideration in the preparation of the SEIS. As background for public comment, this Notice contains a list of potential environmental issues that DOE has tentatively identified for analysis. This list, which DOE developed from preliminary scoping of the proposed changes, is not intended to be all-inclusive or to imply any predetermination of impacts. Instead, it is presented to facilitate public comment on the planned scope and content of the SEIS. Additions to or deletions from this list may occur as a result of the public scoping process.

The following is a preliminary list of potential environmental resource areas that may be affected by construction and operation of the raw water intake, oil terminal, and brine pipeline and diffuser at the proposed new locations and that may be analyzed in the SEIS:

(1) Local and Regional Air Quality.

(2) Water Resources: The quantity and quality of local and regional marine, freshwater, and groundwater systems.

(3) Ecological Resources: Terrestrial and aquatic plants and animals, including state and Federally listed threatened and endangered species, and other protected resources (e.g., wetlands and essential fish habitat).

(4) Land Use: The effects of allocating land resources at the proposed new locations for the raw water intake and oil terminal rather than for other uses (e.g., commercial or recreation).

(5) Geological Resources: Local geology and soils.

(6) Public Health and Safety (including potential incidental spills and releases).

(7) Socioeconomics: Potential influx of workers and the potential increase in demand for local services.

(8) Cultural Resources: Historical, archaeological, and culturally important sites.

(9) Environmental Justice: The potential for disproportionately high and adverse effects on populations protected under Executive Order 12898 (Federal Actions to Address Environmental Justice in Minority Populations and Low-Income Populations).

Scoping Process

To ensure that all issues related to this proposal are addressed, DOE will conduct an open process to define the scope and content of the SEIS. Interested agencies, organizations, Native American tribes, and members of the public are encouraged to submit comments or suggestions concerning the content of the SEIS, issues and impacts to be addressed in the SEIS, and alternatives that should be considered. DOE invites oral comments and suggestions at public scoping meetings to which agencies, organizations, Native American tribes, and the general public are invited.

Written comments should be sent to DOE as described in the ADDRESSES section above. Public scoping meetings will be held at the locations, dates and times listed in the DATES and ADDRESSES sections. These meetings will be informal. A presiding officer designated by DOE will establish procedures governing the conduct of the meetings. The meetings will not be conducted as evidentiary hearings, and those who choose to make statements will not be cross-examined by other speakers. To request time to speak at the public scoping meetings, please contact Donald Silawsky via mail, fax, or e-mail as listed in the ADDRESSES section of this Notice. Persons may also sign up to speak before each meeting at the reception desk at the entrance to the meeting.

To ensure that everyone who wishes to speak has a chance to do so, five minutes will be allotted to each speaker. Depending on the number of persons requesting to speak, DOE may allow longer times for representatives of organizations. Persons wishing to speak on behalf of an organization should identify that organization when they sign up to speak.

A complete transcript of the public scoping meetings will be retained by DOE and made available to the public for review via the DOE Web site at http://www.fe.doe.gov and during business hours at the Department of Energy, Freedom of Information Reading Room, Forrestal Building, 1000 Independence Avenue, SW., Washington, DC 20585-0173, and at the Department of Energy SPR Project Management Office, 900 Commerce Road East, New Orleans, LA 70123-3406. Additional copies of the public scoping meetings transcripts will be made available during normal business hours at the following locations:

Jackson County, Pascagoula Public Library, 3214 Pascagoula St., Pascagoula, MS 39567

Perry County, Richton Public Library, 210 N. Front St., Richton, MS 39476

Greene County, Leakesville Public Library, 101 Lafayette, Leakesville, MS 39451

George County, Lucedale-George County Public Library, 507 Oak St., Lucedale, MS 39452

Draft SEIS Schedule and Availability

The Draft SEIS is scheduled to be issued in late Fall 2008. The availability of the Draft SEIS and dates for public hearings soliciting comments will be announced in the Federal Register and local media. The Draft SEIS will be made available for public inspection at the libraries identified above. Comments on the Draft SEIS will be considered in preparing the Final SEIS.

Interested parties who do not wish to submit comments at this time, but who would like to receive a copy of the Draft SEIS and other project materials, should contact Donald Silawsky as provided in the ADDRESSES section of this Notice.

Issued in Washington, DC, on February 29, 2008.
James A. Slutz,
Acting Principal Deputy Assistant Secretary, Office of Fossil Energy.

[FR Doc. E8-4242 Filed 3-4-08; 8:45 am]

BILLING CODE 6450-01-P